DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) # Depth in feet above ground. Modified | Communities affected
Breathitt County, Kentucky, and Incorporated Areas Docket No.: FEMA-B-7714
North Fork Kentucky River | Approximately 7.43 miles downstream of the confluence with Frozen Creek near Cy Bend | +717 | Breathitt County (Unincorporated Areas), City of Jackson.
| Approximately 2.83 miles upstream of the Robinson Road Bridge at Quick Sand | +754
PanBowl Lake | Kentucky 15 Crossing | +732 | Breathitt County (Unincorporated Areas), City of Jackson.
| Kentucky 1812 Crossing | +732
* National Geodetic Vertical Datum.
+ North American Vertical Datum.
# Depth in feet above ground.
ADDRESSES
City of Jackson
Maps are available for inspection at 1137 Main Street, Jackson, KY 41339.
Breathitt County (Unincorporated Areas)
Maps are available for inspection at 1137 Main Street, Jackson, KY 41339.
Osage County, Oklahoma, and Incorporated Areas Docket No.: FEMA-B-7714
Bird Creek | Approximately 5,250 feet upstream from power line right-of-way | +646 | Osage County (Unincorporated Areas).
| Approximately 8750 feet upstream from power line right-of-way | +648
Eliza Creek | Approximately 4,000 ft upstream from CR-2708 | +695 | City of Bartlesville.
| Approximately 750 feet southwest intersection of Highway 60 and Highway 123 | +702
Euchee Creek | Approximately 8,250 feet downstream from confluence with Euchee Creek/Tributary (County Boundary) | +690 | Osage County (Unincorporated Areas).
| Approximately 2,000 feet upstream of Unnamed Dirt Road | +791
Tributary | Confluence with Euchee Creek | +700 | Osage County (Unincorporated Areas).
| Approximately 1050 feet upstream of intersection with North Willow Creek Road | +720
Shell Creek | Approximately 1,600 feet downstream of North 161 St. West Avenue | +661 | Osage County (Unincorporated Areas).
| Confluence with UT 3 Shell Creek | +677
UT 1 to Shell Creek | Confluence with Shell Creek | +668 | Osage County (Unincorporated Areas).
| Approximately 1820 feet upstream of Private Road | +805
UT 1 to UT to Horsepin Creek | Approximately 3000 feet south of intersection of 166th Street and Railroad | +638 | Osage County (Unincorporated Areas).
| Approximately 375 feet south of intersection of 166th Street and Railroad | +644
UT 3 to Shell Creek | Confluence with Shell Creek | +677 | Osage County (Unincorporated Areas).
| Approximately 500 ft down stream of Shell Lake Dam | +693
UT 4 to Shell Creek | Confluence with Shell Creek | +668 | Osage County (Unincorporated Areas).
| Approximately 4000 feet of confluence with Shell Creek | +673
UT to West Big Heart Creek | 4,000 feet downstream of mouth of creek (County Line) | +695 | City of Sand Springs.
| 2,750 feet downstream of mouth of creek | +790
West Big Heart Creek (Formerly Blackboy Creek) | Approximately 10,500 feet downstream of mouth of creek (County Line) | +722 | Osage County (Unincorporated Areas).
| Approximately 8,000 feet downstream of mouth of creek | +793
* National Geodetic Vertical Datum.
+ North American Vertical Datum.
# Depth in feet above ground.
ADDRESSES
City of Bartlesville
Maps are available for inspection at 401 South Johnston Ave, Bartlesville, OK 74003.
City of Sand Springs
Maps are available for inspection at P.O. Box 338, Sand Springs, OK 74063.
Osage County (Unincorporated Areas)
Maps are available for inspection at 628 Kinekah, Pawhuska, OK 74056-0087.
Osage County, Oklahoma and Incorporated Areas Docket No.: FEMA-B-7456
Bird Creek | Approximately 250 feet from confluence of Bird Creek and Mud Creek | +818 | Osage County (Unincorporated Areas), City of Pawhuska, City of Barnsdall, Town of Avant.
| Approximately 1,700 feet downstream from confluence w/UT1 to Bird Creek | +645
* National Geodetic Vertical Datum.
+ North American Vertical Datum.
# Depth in feet above ground.
ADDRESSES
Osage County
Maps are available for inspection at 628 Kihekah, Pawhuska 74056.
Town of Avant
Maps are available for inspection at City Hall: 230 W. McCoy Lane, Avant, OK 74001.
City of Barnsdall
Maps are available for inspection at 409 W. Main, Barnsdall, OK 74002.
City of Pawhuska
Maps are available for inspection at 118 W. Main, Pawhuska, OK 74056.
Lincoln County, South Dakota, and Incorporated Areas Docket No: FEMA-B-7708 & B-7735
Ninemile Creek | Just downstream from 274th Street | +1385 | Town of Harrisburg.
| Just upstream from 272nd Street | +1472 | Town of Tea.
| Approximately 320 feet downstream from Kevin Drive | +1477
| Approximately 650 feet upstream from Ryan Drive | +1483
| Just downstream from 273rd Street | +1311 | Unincorporated Areas of Lincoln County.
| Just upstream from South Dakota Highway 115 | +1411
| 1550 feet upstream from 469th Avenue | +1518
Tributary | Approximately 2150 feet downstream from 475th Avenue | +1391 | Town of Harrisburg.
| Approximately 500 feet downstream from 475th Avenue at the Corporate Limit line | +1400
| Just downstream from 273rd Street | +1417
Tributary | Just upstream from the confluence with Ninemile Creek | +1387 | Unincorporated Areas of Lincoln County.
| Approximately 2050 feet upstream from 273rd Street | +1425
| Just downstream from 473rd Avenue | +1466
Schindler Creek | Just upstream from the confluence with Ninemile Creek | +1267 | Unincorporated Areas of Lincoln County.
| Just downstream from 477th Avenue | +1394
| Approximately 1150 feet upstream from 271st Street | +1452
Spring Creek | Just upstream from the confluence with Big Sioux River | +1269 | Unincorporated Areas of Lincoln County.
| Just downstream from South Dakota Highway 11 | +1368
| Approximately 950 feet upstream from Cliff Avenue | +1461
Tributary | Just upstream from the confluence with Spring Creek | +1346 | Unincorporated Areas of Lincoln County.
| Just downstream from Cody Road | +1392
| Just upstream from 269th Street | +1425
* National Geodetic Vertical Datum.
+ North American Vertical Datum.
# Depth in feet above ground.
ADDRESSES
Town of Harrisburg
Maps are available for inspection at P.O. Box 26, Harrisburg, SD 57032.
Town of Tea
Maps are available for inspection at 600 East 1st Street, P.O. Box 128, Tea, SD 57064.
Unincorporated Areas of Lincoln County
Maps are available for inspection at 224 West Ninth Street, Sioux Falls, SD 57104.
Webb County, Texas and Incorporated Areas Docket No.: FEMA-B-7710
Chacon Creek | Confluence with Rio Grande | +394 | City of Laredo, WebbCounty, (Unincorporated Areas).
| Approximately 2000 feet downstream from confluence with Casa Blanca Lake | +453
Tributary 1 | Confluence with Chacon Creek | +394 | City of Laredo.
| Approximately 250 feet upstream from intersection with Chestnut | +422
Tributary 2 | Confluence with Chacon Creek | +394 | City of Laredo, Webb County (Unincorporated Areas).
| Approximately 1500 feet downstream from Loop 20 | +398
Tributary 3 | Confluence with Chacon Creek | +436 | City of Laredo, Webb County (Unincorporated Areas).
| Approximately 2500 feet upstream from the intersection with Highway 59 | +444
Deer Creek | Confluence with Rio Grande | +411 | City of Laredo.
| Intersection with Logistic Road | +476
Dellwood Tributary (Previously Las Manadas Creek Tributary 1) | Confluence with Las Manadas Creek | +410 | City of Laredo, Webb County (Unincorporated Areas).
| Approximately 2000 feet upstream from intersection with FM 3464 | +486
Las Manadas Creek | Confluence with Rio Grande | +408 | City of Laredo, Webb County (Unincorporated Areas).
| Approximately 1750 feet upstream from intersection with Loop 20 | +552
Tributary 1 | Confluence with Las Manadas Creek | +412 | City of Laredo, Webb County (Unincorporated Areas).
| Approximately 200 feet upstream from Springfield Drive | +468
Tributary 1A | Confluence with Las Manadas Creek Tributary 1 | +430 | City of Laredo.
| Approximately 1200 feet upstream from Dover/Stratford | +464
Tributary 2 (Formerly Las Manadas Creek Tributary 3) | Confluence with Las Manadas Creek | +418 | City of Laredo, Webb County (Unincorporated Areas).
| Approximately 5050 feet upstream from intersection with FM 3464 | +489
Tributary 2A | Confluence with Las Manadas Creek Tributary 2 | +447 | City of Laredo.
| Approximately 3225 feet upstream from confluence with Las Manadas Creek Tributary 2 | +459
Rio Grande | Approximately 1750 feet upstream from intersection with Riverhill Road | +391 | City of Laredo, Webb County (Unincorporated Areas).
| Confluence with Deer Creek | +411
Tex-Mex Railroad | Confluence with Chacon Creek | +400 | City of Laredo, Webb County (Unincorporated Areas).
Tributary | Approximately 1250 feet upstream from intersection with Tex-Mex Railroad | +423
Zacate Creek | Approximately 250 feet downstream from the intersection with Mexican Railroad | +396 | City of Laredo.
| Confluence with Rio Grande | +399
* National Geodetic Vertical Datum.
+ North American Vertical Datum.
# Depth in feet above ground.
ADDRESSES
City of Laredo
Maps are available for inspection at 1120 San Bernardo, Laredo, TX 78042.
Webb County (Unincorporated Areas)
Maps are available for inspection at 1110 Washington Street, Suite 302, Laredo, TX 78040.
Columbia County, Wisconsin and Incorporated Areas Docket No.: FEMA-B-7708
Baraboo River | At confluence with the Wisconsin River | *790 | Columbia County (Unincorporated Areas).
| Downstream side of Interstate 90 | *796
Big Slough | At confluence with Neenah Creek | *790 | Columbia County (Unincorporated Areas).
| Downstream side of State Highway 16 | *796
Duck Creek | Upstream side of U.S. Highway 51 | *791 | Columbia County (Unincorporated Areas).
| Upstream side of Chicago Milwaukee St. Paul and Pacific Railroad | *791
Fox River | At downstream county boundary between Columbia and Marquette counties | *779 | City of Portage, Columbia County (Unincorporated Areas).
| Downstream side of Chicago Milwaukee St. Paul and Pacific Railroad | *785
Neenah Creek | Downstream side of County Highway CM | *781 | Columbia County (Unincorporated Areas).
| At confluence with Big Slough | *790 |
Spring Creek | Approximately ½ mile downstream of Fair Street | *805 | City of Lodi.
| Upstream side of Riddle Road | *834 |
Tributary A | At confluence with Spring Creek | *821 | City of Lodi.
| Approximately 1,300 feet upstream of Spring Street | *821
Wisconsin River | Downstream side of State Highway 60 Upstream side of Interstate 39 At upstream county boundary between Columbia and Adams counties | *748 *798 *848 | City of Portage, City of Wisconsin Dells, Columbia County (Unincorporated Areas).
* National Geodetic Vertical Datum.
+ North American Vertical Datum.
# Depth in feet above ground.
ADDRESSES
Columbia County (Unincorporated Areas)
Maps are available for inspection at: Columbia County Planning and Zoning Department, 400 DeWitt St., Portage, WI 53901.
City of Lodi
Maps are available for inspection at: City Clerk's Office, 130 S. Main St., Lodi, WI 53555.
City of Portage
Maps are available for inspection at: City Hall, 115 W. Pleasant St., Portage, WI 53901.
City of Wisconsin Dells
Maps are available for inspection at: City Hall, 300 La Crosse St., Wisconsin Dells, WI 53965.
La Crosse County, Wisconsin and Incorporated Areas Docket No.: FEMA-B-7707
Black River | At confluence with the Black River, Mississippi River and La Crosse River | *644 | City of Onalaska, City of La Crosse, La Crosse County (Unincorporated Areas).
| Just upstream of Lock & Dam 7 | *646
Ebner Coulee | 100 feet south of Jackson St | *658 | City of La Crosse, La Crosse County (Unincorporated Areas).
| Just east of 29th St. | *667
Pond 1 | Just east of 29th St | *633 | City of La Crosse.
| At Burlington Northern Railroad | *663
Pond 2 | At State Road | *656 | City of La Crosse.
| At Farnam Street | *656
Pond 3 | At State Road | *655 | City of La Crosse.
| At 200 feet north of Crestline Place | *655
Pond 4 | 500 feet south of Evergreen St | *652 | City of La Crosse.
| 150 feet north of Evergreen St | *652
Pond 5 | At Ward Avenue | *652 | City of La Crosse.
| At Travis Street | *653
Pond 6 | 600 feet south of East Fairchild Street | *654 | City of La Crosse.
| 600 feet north of West Fairchild Street | *654
Pond 7 | At Farnam Street | *658 | City of La Crosse.
| At Jackson Street | *658
Johns Coulee | At mouth at Mormon Creek | *725 | La Crosse County (Unincorporated Areas).
| Approximately 1 mile upstream of County Highway YY bridge | *827
La Crosse River | Approximately 600 feet upstream of Highway 53 | *644 | City of Onalaska, City of La Crosse, La Crosse County (Unincorporated Areas).
| Overbank area between Goheres St. to the north and Monitor St. to the south | *645
| At State Highway 16 | *655
Left Overbank | Southern extent near La Crosse St | *644 | City of La Crosse.
| At Lang Drive | *645
Right Overbank 1 | Railroad just north of County Highway B | *649 | City of La Crosse.
| At Hawkins Road | *653
Railroad Ditch | At mouth at confluence with La Crosse River | *650 | City of La Crosse.
| Upstream extent at divergence at La Crosse River | *655
Mormon Creek | At mouth at Mississippi River | *639 | La Crosse County (Unincorporated Areas).
| At County Highway M | *766
Mississippi River | Adjacent to Marion Road N at river mile 694 | *640 | City of La Crosse, City of Onalaska, La Crosse County (Unincorporated Areas).
| Approximately 3.6 miles south of Highway 35 at river mile 711 | *649
Pammel Creek | At mouth at Mississippi River | *640 | City of La Crosse, La Crosse County (Unincorporated Areas).
| 150 feet upstream of Hagen Road | *683
Pammel Creek East Bank | At Juniper Street | *644 | City of La Crosse, La Crosse County (Unincorporated Areas).
| At Leonard Street | *644
| At Meadow Lane Place | *647
| Adjacent to Easter Road | *647
| At Park Lane Drive | *653
| At Midway between Park Lane Drive & Ward Avenue | *653
Sand Lake Coulee | 200 feet downstream of County Highway OT | *650 | Village of Holmen, City of Onalaska, La Crosse County (Unincorporated Areas).
| At Private driveway ¼ mile north of Abnet Rd | *770
Right Overbank—Midway | At mouth at confluence with Sand Lake Coulee | *652 | Village of Holmen, La Crosse County (Unincorporated Areas).
| Approximately 1200 feet downstream of State Highway 35 | *663
Right Overbank—Golf Course | At County Highway SN | *701 | Village of Holmen, City of Onalaska, La Crosse County (Unincorporated Areas).
| Golf Course boundary 0.5 mi. downstream of Moos Rd | *721
Smith Valley Creek | At mouth at La Crosse River | *658 | City of Onalaska, City of La Crosse, La Crosse County (Unincorporated Areas).
| End of Smith Valley Road | *814
State Road Coulee | 150 feet upstream of Hagen Rd | *683 | La Crosse County (Unincorporated Areas).
| 600 feet upstream of Hagen Rd. | *687
* National Geodetic Vertical Datum.
+ North American Vertical Datum.
# Depth in feet above ground.
ADDRESSES
La Crosse County (Unincorporated Areas)
Maps are available for inspection at: La Crosse County Zoning, Planning and Land Information Office, 400 4th St. N, La Crosse, WI 54601.
Village of Holmen
Maps are available for inspection at: Village Hall, 421 S. Main St., Holmen, WI 54636-0158.
City of La Crosse
Maps are available for inspection at: City Hall, 400 La Crosse St., La Crosse, WI 54601.
City of Onalaska
Maps are available for inspection at: City Hall, 415 Main St., Onalaska, WI 54650.

(Catalog of Federal Domestic Assistance No. 97.022, “Flood Insurance.”)

Dated: October 9, 2007.
David I. Maurstad,
Federal Insurance Administrator of the National Flood Insurance Program, Department of Homeland Security, Federal Emergency Management Agency.

[FR Doc. E7-20384 Filed 10-15-07; 8:45 am]

BILLING CODE 9110-12-P